CONSUMER PRODUCT SAFETY COMMISSION

16 CFR Parts 1112, 1130, and 1232

[Docket No. CPSC-2015-0029]

Safety Standard for Children's Folding Chairs and Stools

AGENCY: Consumer Product Safety Commission.

ACTION: Notice of proposed rulemaking.

SUMMARY: The Danny Keysar Child Product Safety Notification Act, Section 104 of the Consumer Product Safety Improvement Act of 2008 (“CPSIA”) requires the United States Consumer Product Safety Commission (“Commission” or “CPSC”) to promulgate consumer product safety standards for durable infant or toddler products. These standards are to be “substantially the same as” applicable voluntary standards or more stringent than the voluntary standard if the Commission determines that more stringent requirements would further reduce the risk of injury associated with the product. The Commission is proposing a safety standard for children's folding chairs and stools in response to the direction under Section 104(b) of the CPSIA. In addition, the Commission is proposing an amendment to 16 CFR part 1112 to include 16 CFR part 1232 in the list of notice of requirements (“NORs”) issued by the Commission and an amendment to 16 CFR part 1130 to identify children's folding stools as a durable infant or toddler product.

DATES: Submit comments by January 4, 2016.

ADDRESSES: Comments related to the Paperwork Reduction Act aspects of the marking, labeling, and instructional literature requirements of the proposed mandatory standard for children's folding chairs and stools should be directed to the Office of Information and Regulatory Affairs, the Office of Management and Budget, Attn: CPSC Desk Officer, FAX: 202-395-6974, or emailed to oira_submission@omb.eop.gov.

Other comments, identified by Docket No. CPSC-2015-0029, may be submitted electronically or in writing:

Electronic Submissions: Submit electronic comments to the Federal eRulemaking Portal at: http://www.regulations.gov. Follow the instructions for submitting comments. The Commission does not accept comments submitted by electronic mail (email), except through www.regulations.gov. The Commission encourages you to submit electronic comments by using the Federal eRulemaking Portal, as described above.

Written Submissions: Submit written submissions by mail/hand delivery/courier to: Office of the Secretary, Consumer Product Safety Commission, Room 820, 4330 East West Highway, Bethesda, MD 20814; telephone (301) 504-7923.

Instructions: All submissions received must include the agency name and docket number for this proposed rulemaking. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number CPSC-2015-0029, into the “Search” box, and follow the prompts.

FOR FURTHER INFORMATION CONTACT: Patricia Edwards, Project Manager, Directorate for Engineering Sciences, U.S. Consumer Product Safety Commission, 5 Research Place, Rockville, MD 20850; email: pedwards@cpsc.gov; telephone: (301) 987-2224.

SUPPLEMENTARY INFORMATION:

I. Background and Statutory Authority

The CPSIA was enacted on August 14, 2008. Section 104(b) of the CPSIA, part of the Danny Keysar Child Product Safety Notification Act, requires the Commission to: (1) Examine and assess the effectiveness of voluntary consumer product safety standards for durable infant or toddler products, in consultation with representatives of consumer groups, juvenile product manufacturers, and independent child product engineers and experts; and (2) promulgate consumer product safety standards for durable infant and toddler products. Standards issued under section 104 are to be “substantially the same as” the applicable voluntary standards or more stringent than the voluntary standard if the Commission determines that more stringent requirements would further reduce the risk of injury associated with the product.

The term “durable infant or toddler product” is defined in section 104(f)(1) of the CPSIA as “a durable product intended for use, or that may be reasonably expected to be used, by children under the age of 5 years.” Although section 104(f)(2) does not specifically identify children's folding chairs, high chairs, booster chairs and hook-on chairs are explicitly deemed to be “durable infant or toddler products.” Because folding chairs and folding stools serve functions and have characteristics similar to the listed types of chairs, folding chairs and folding stools likewise should be considered to be “durable infant or toddler products.” This conclusion is consistent with the Commission's prior determination that “children's folding chairs” fall within the definition of a “durable infant or toddler product” and are covered by product registration card rule promulgated under CPSIA section 104(d).¹

¹ Requirements for Consumer Registration of Durable Infant or Toddler Products; Final Rule, 74 FR 68668 (Dec. 29, 2009); 16 CFR 1130.2(a)(13).

Although the product registration card rule does not specifically mention children's folding stools, the Commission considers folding stools to be a subset of folding chairs. Thus, the Commission proposes to include children's folding stools within the scope of the proposed standard. The Commission proposes to amend the product registration card rule so the scope of that rule will be clear that children's folding chairs and folding stools are identified as durable infant or toddler products for purposes of registration card requirements.

As required by section 104(b)(1)(A), the Commission consulted with manufacturers, retailers, trade organizations, laboratories, consumer advocacy groups, consultants, and members of the public in the development of this notice of proposed rulemaking (“NPR”), largely through the standards development process of ASTM International (formerly the American Society for Testing and Materials) (“ASTM”). The proposed rule is based on the current voluntary standard developed by ASTM, ASTM F2613-14, Standard Consumer Safety Specification for Children's Chairs and Stools (“ASTM F2613-14”), with several modifications.

The testing and certification requirements of section 14(a) of the Consumer Product Safety Act (“CPSA”) apply to product safety standards promulgated under section 104 of the CPSIA. Section 14(a)(3) of the CPSA requires the Commission to publish an NOR for the accreditation of third party conformity assessment bodies (test laboratories) to assess conformity with a children's product safety rule to which a children's product is subject. The children's folding chairs and stools standard, if issued as a final rule, will be a children's product safety rule that requires the issuance of an NOR. To meet the requirement that the Commission issue an NOR for the children's folding chairs and stools standard, this NPR proposes to amend 16 CFR part 1112 to include 16 CFR part 1232, the CFR section where the children's folding chairs and stools standard will be codified, if the standard becomes final.

II. Product Description

ASTM F2613-14 defines a “children's chair” as “seating furniture with a rigid frame that is intended to be used as a support for the body, limbs, or feet of a child when sitting or resting in an upright or reclining position.” A “children's stool” is defined as a “children's chair without back, or armrest.” ASTM further defines “folding chair” and “folding stool” as “a children's chair or stool which can be folded for transport or storage.” ASTM F2613-14, Section 3. The standard covers a chair or stool intended to be used by a single child who can get in and get out of the product unassisted and with a seat height 15 inches or less, with or without a rocking base. The Commission proposes to limit the scope of the mandatory standard to folding chairs and folding stools because the hazards presented by folding chairs and folding stools are different from non-folding chairs and stools, as discussed further in section V of the preamble.

There are two primary designs associated with children's folding chairs and folding stools: (1) Straight tube versions that contact the surface in three or more capped-tube legs, and (2) bent tube versions that contact the ground along a substantial portion of the tubular frame. Although there are a variety of other designs used for children's folding chairs and folding stools, the primary characteristic that applies to all of the products is the folding mechanism of the chair and stool that is used for transport or storage of the product.

III. Incident Data

CPSC staff received reports of 98 injuries, 45 non-injury incidents, and another 39 recall-related complaints associated with children's folding chairs or stools in the Consumer Product Safety Risk Management System (“CPSRMS”) database for the period January 1, 2003 through December 31, 2014. Only one of the reported incidents involved a folding stool, while the remainder involved folding chairs. There were no fatalities reported in the data. Reporting is ongoing, and thus, the number of reported injury and non-injury incidents from the CPSRMS system may change in the future.

1. Incidents With Injuries

Ninety-eight (98) nonfatal incident injuries were reported, some not medically treated. Injuries involving chairs designed for the under 5 age range (51%) were the most frequently reported incidents. The most frequent injuries (76) involved fingers, thumbs, or other parts of the hand, with most of the remaining incidents (14) affecting the head or face. The youngest injury victim was 12 months old. Some victims exceeded the intended age range of the chair, but their injuries demonstrated hazards with chairs relevant to the standard (i.e., intended for children under 5). Two injured adults were included among the 98 nonfatal incidents, as were several children over 5 years of age. Reports in which the submitter suggested injuries from the same repeating hazard on multiple occasions and/or affecting multiple victims were counted as a single injury incident. These injury counts, therefore, may be considered conservative.

2. Incidents With No Injury Reported

Forty-five (45) incidents did not report an injury. However, these reports illustrate a potential for injuries. These reports included incidents in which the chair was occupied or used by a child, plus incidents in which a parent or submitter detected a malfunction or hazardous issue while the chair was not in use.

3. Non-Incident Complaints

Thirty-nine (39) reports did not describe incidents, but merely reflected concerns regarding recalls. These concerns involved questions about recalled products (e.g., determining whether a product was subject to recall), or concerns regarding apparent similarities in design between recalled and non-recalled products.

4. National Electronic Injury Surveillance System Estimates

CPSC also evaluates data reported through the National Electronic Injury Surveillance System (“NEISS”), which gathers summary injury data from hospital emergency departments selected as a probability sample of all the U.S. hospitals with emergency departments. This surveillance information enables CPSC staff to make timely national estimates of the number of injuries associated with specific consumer products. Based on a review of emergency department visits from January 1, 2003 through December 31, 2014, CPSC staff determined that there were an estimated 17,500 children younger than 5 years of age treated in emergency departments for injuries related to folding chairs and stools.

Information from hospital records, however, does not contain sufficient information to determine which injuries involved chairs specially designed for children under age 5. A known proportion of these injuries may have involved folding chairs or stools designed for children older than 5, or adults. Accordingly, CPSC staff focused on incident reports with specific information (e.g., make and model of the product, photos, or a sufficiently detailed description) that allowed staff to characterize incidents involving chairs specifically intended or reasonably expected to be used by children under age 5. Reports indicating that the product was a folding chair but lacking information necessary for staff to determine the age for which the product is intended were excluded.

A. Hazard Pattern Identification

CPSC staff considered all 182 reports and complaints to identify four different hazard patterns associated with children's folding chairs and stools. One hundred forty-three reports involved incidents, and 39 reports involved complaints (without incident).

1. Pinch/Shear Hazards—Ninety (90) incidents demonstrated pinching or shearing hazards (including the possibility of crushing or scissoring when the chair folds or unfolds, regardless of intent). Victims were injured while transitioning the chair between its folded and unfolded states. Victims were also injured following unexpected folding or unfolding of the chair (generally described as “collapse”), or because of some malfunction or issue relevant to these hazards (such as a failed locking mechanism). Although most of these injuries involved pinched/sheared fingers or other body parts, there were two incidents in which the child was injured, but avoided being pinched or sheared. In these two incidents, the injuries resulted when a child's head or face struck the floor as a consequence of the child falling out of the collapsing chair.

Fingers and hands were the body parts most commonly involved in pinching or shearing hazards. In two incidents, other body parts were pinched/sheared from unexpected folding/collapsing (1 neck incident and 1 leg incident). Out of all 90 pinch/shear hazard incidents, including incidents without actual pinch/shear injuries, at least eight incidents involved recalled products (6 injured; 2 without injuries).

2. Undetermined Hazard Finger Injuries—Fourteen (14) incidents involved finger injuries that were caused by an undetermined hazard. In seven of these incidents, there was evidence that the victim's finger was caught in a chair mechanism. For these incidents, the hazard likely is either pinch/shear related or entrapment related. In the other seven incidents, the child suffered finger injuries, but there was insufficient information to determine the cause of injury. In general, these injuries were severe (such as amputation or fracture). Two of the incidents involved recalled chairs.

3. Stability/Tipover—Twenty-two (22) incidents involved the chair tipping over without indication of chair collapse. Fifteen (15) of these incidents resulted in injuries. CPSC staff was unable to determine if any of the chairs involved in these stability/tipover incidents were recalled models.

4. Miscellaneous—Seventeen (17) incidents related to various other folding chair or stool issues. These incidents included exposures to high levels of lead or other hazardous substances; a collapsing table associated with the chair; or loose parts, sharp points, and seat issues.

C. Recall Activities

Since January 1, 1997, there have been 11 children's folding chair or stool recalls involving 10 different firms, and 5,394,600 units of product. The hazards include pinching, bruising, fractures, finger amputations, and lead paint violations.

IV. The ASTM Standard

A. History of ASTM F2613

Section 104(b)(1)(A) of the CPSIA requires the Commission to consult representatives of “consumer groups, juvenile product manufacturers, and independent child product engineers and experts” to “examine and assess the effectiveness of any voluntary consumer product safety standards for durable infant or toddler products.” As a result of incidents arising from children's folding chairs, CPSC staff requested that ASTM develop voluntary requirements to address the hazard patterns related to the use of folding chairs. Through the ASTM process, CPSC staff consulted with manufacturers, retailers, trade organizations, laboratories, consumer advocacy groups, consultants, and members of the public.

ASTM F2613 was first published in 2007, and since then, the voluntary standard has been revised five times (2009, 2010, 2011, 2013, and 2014). The scope of products covered by the original version, F2613-07, was limited to “children's folding chairs” with a seat height of 15 inches or less. Significant revisions were made in 2013, in ASTM F2613-13, that were designed to expand the scope of the voluntary standard to all children's chairs and stools. In addition, the ASTM 2613-13 standard added definitions for “children's chair” and “children's stool,” and clarified the definition of a “folding chair” and “folding stool.” Specifically, “stools” were defined as a specific subset of a chair (“a children's chair without back or armrests”). ASTM 2613-13 also added stability requirements, a test method for stability, and clarified that locking mechanism requirements are applicable only for folding chairs and folding stools.

The current version, ASTM F2613-14, was approved on October 1, 2014, and published in October 2014. ASTM F2613-14 excludes products that do not have a rigid frame (such as bean bag chairs or foam chairs), seats with restraint systems, products intended for use by more than a single child, and products in which the child could not get in and out of the product unassisted. ASTM F2613-14 also includes products “with or without a rocking base” and contains many general requirements that are common to other juvenile product standards, such as requirements for sharp edges or points, small parts, and lead in paint. There are also specific performance requirements to address incidents that may result in lacerations, fractures, pinches, amputations, and other injuries. ASTM F2613-14 also contains requirements for marking and labeling.

B. International Standards for Children's Folding Chairs and Folding Stools

CPSC staff compared the performance requirements of ASTM F2613-14 to the performance requirements of international standards: FIRA C001:2008 Furniture—Children's Domestic Furniture—General Safety Requirements and FIRA C002:2008 Furniture—Children's Domestic Furniture Seating—Requirements for Strength, Stability, and Durability, which address children's chairs.

CPSC staff's review showed that ASTM F2613-14 is the most comprehensive of the standards to address the incident hazards because ASTM F2613-14 includes requirements for labeling, pinch/shear, locking devices, entrapment, stability, strength, and small parts. FIRA C001/C002 standards include some requirements not found in ASTM F2613-14, such as a requirement for materials to be clean and free from infestation, and requirements that deal with corrosion-resistant metals, prohibition of glass and glass mirrors, retention of magnets, partially bound and V-shaped openings above 23.5 inches, moisture content of timber components, and powered-mechanism shear/pinch hazards. However, the hazard patterns identified in CPSC staff's review of the incident data did not indicate that similar requirements need to be added to ASTM F2613-14. However, CPSC staff will continue to monitor hazard patterns and recommend future changes, if necessary.

V. Assessment of Voluntary Standard ASTM F2163-14

CPSC staff considered the fatalities, injuries, and non-injury incidents associated with children's folding chairs and folding stools, and evaluated ASTM F2163-14 to determine whether the current ASTM standard adequately addresses the incidents, or whether more stringent standards would further reduce the risk of injury associated with these products. Based on CPSC staff's assessment, the Commission proposes the following modifications to ASTM F2163-14: (1) Limit the scope of the proposed mandatory standard to children's folding chairs and folding stools; (2) change the stability test method to add a new performance requirement and test method to address sideways stability incidents in addition to rearwards stability incidents; and (3) revise the marking and labeling sections.

A. Scope

ASTM F2613-13 expanded the scope of the standard beyond children's folding chairs to include all children's chairs and stools. CPSC staff conducted a preliminary review of the incident data involving all children's chairs and stools. CPSC staff determined that, based on the total number of incidents, the number of incidents over time (years), the body parts injured, and the incident victim's average age reported, the hazards associated with children's folding chairs or stools are substantially different from the hazards reported for children's non-folding chairs or stools. Accordingly, the NPR encompasses both folding chairs and folding stools, but does not include all children's chairs and stools. However, CPSC staff will continue to review incidents from children's non-folding chairs and stools to monitor whether hazards associated with non-folding chairs and stools also need to be addressed.

ASTM defines “children's chair” as “seating furniture with a rigid frame that is intended to be used as a support for the body, limbs, or feet of a child when sitting or resting in an upright or reclining position.” A “children's stool” is defined as a “children's chair without back, or armrest.” ASTM defines “children's folding chair” and “children's folding stool” as “a children's chair or stool which can be folded for transport or storage.” ASTM's definition considers children's folding stools to be a subset of children's folding chairs, albeit without a back or armrest. CPSC staff also agrees that stools are a subset of chairs. Significantly, folding chairs and folding stools have similar configurations, and the same potential hazards are presented in the folding mechanisms. One reported incident in the injury data involved folding stools and a pinching injury to a child's fingers when the stool's locking mechanism failed and caused the stool to fold. This is the same scenario that occurs with folding chairs. The configuration of folding stools is similar to folding chairs, even though stools lack a backrest and arms. Like folding chairs, folding stools can fold unexpectedly or collapse unexpectedly during use, if there is a faulty locking mechanism—or no locking mechanism at all—and result in serious injuries to fingers if there is a lack of adequate clearance. Although CPSC staff is not aware of any reported stability-related incidents associated with folding stools, ASTM F2613-14 currently requires folding stools to be tested to the same rearward stability test as required for folding chairs. The sideways stability test would be equally applicable to folding stools. CPSC staff's review indicated that the test methods for loading, locking mechanisms, clearances, stability testing, and labeling requirements for folding stools would be the same for folding chairs.

Based on CPSC staff's review of the configurations of children's folding chairs and folding stools and the hazards presented by them, the Commission proposes to include children's folding stools, along with children's folding chairs, in the scope of the proposed rule. However, the Commission seeks public comments regarding the inclusion of children's folding stools in the proposed standard.

B. Hazards

CPSC believes that ASTM F2613-14 adequately addresses many of the general hazards associated with durable nursery products, such as lead in paint and surface coatings, sharp edges/sharp points, small parts, wood part splinters, openings/entrapments, flammable solids, and attached toy accessories. The standard covers specific requirements for folding chairs and stools, including requirements for adequate clearances or locking mechanisms to address pinch/shear hazards related to folding of the chair, load requirements to address structural integrity, stability requirements to address rearward tipover and warning and labeling requirements to inform the user of the hazards associated with children's folding chairs and stools. CPSC believes that these requirements adequately address the majority of incidents associated with folding chairs and folding stools. However, as discussed below, the Commission proposes to change the stability test method to include a sideways stability test method, as well as changes to the warning and labeling requirements to further reduce the risk of injury associated with folding chairs and stools.

Pinch/Shear Hazards—ASTM F2613-14 includes requirements to prevent injury to the occupant from scissoring, shearing, or pinching when structural members or components rotate about a common axis, slide, pivot, fold, or otherwise move relative to one another. CPSC staff's review concluded that the current mechanical requirements adequately address the pinch and shear hazards in children's folding chairs and stools. The number of reported incidents has continued to decline since ASTM F2613 was first published in 2007, with reported incidents continuing to occur on chairs that are either noncompliant or not readily identifiable as folding chairs or folding stools. Although these injuries and incidents have declined, CPSC believes that strengthening the warning and labeling requirements for finger amputation hazards may make caregivers more aware of the hazard, and possibly reduce the likelihood that these types of incidents will occur in the future.

Undetermined Hazard Finger Injuries—CPSC staff's review of the incident data indicates that some of the undetermined hazard finger injuries are likely due to pinching and shearing issues discussed above in in the hazard patterns and finger entrapments. However, CPSC staff did not obtain enough information in the incident reports to make a definitive determination. Other than pinching/shearing, fingers can be caught between non-moving parts, in circular holes, or in grooves or slots. Finger entrapment in circular holes results in cutting off circulation, which does not generally occur with grooves or slots. The current standard includes requirements to avoid finger entrapment in circular holes by establishing allowable dimensions for circular holes. At this time, the Commission is not proposing any changes to ASTM F2613-14 to address these undetermined incidents.

Stability/Tipover Hazard—A review of incident data reveals 22 occurrences of chairs tipping over with no evidence of the chair collapsing. The incident descriptions often state that the child was leaning over or reaching to one side when the chair tipped over. ASTM F2613-14 contains a requirement to address the rearward stability of the chair or stool, but sets forth no requirement to address tipovers from lack of sideways stability. The majority of the tipover incidents were due to sideways tipovers. Even though most of the injuries sustained were minor, due to the short height of the chair, there is the potential for more severe injuries to occur, if the child falls onto a nearby object. Accordingly, CPSC staff performed testing to various stability test methods and found that the stability method currently in ASTM F2613-14 could be used to determine both rearward and sideways stability with modifications.

CPSC staff compared the existing ASTM F2613-14 stability test to the stability requirements found in the European standard EN 1022 Domestic Furniture Seating—Determination of Stability. However, the requirements in EN 1022 are applicable to adult-sized furniture, not children's furniture. Accordingly, CPSC staff reviewed a standard developed by the UK Furniture Industry Research Association (“FIRA”), FIRA C002:2008 Furniture—Children's Domestic Furniture Seating—Requirements for Strength, Stability, and Durability. FIRA C002 specifies the EN 1022 test method, but adjusts the test loads based on the weight of the intended child occupant. FIRA C002 further references EN 1729-2 Furniture—Chairs and Tables for Educational Institutions Part 2, for determining the loading points for the test loads. After testing both methods (ASTM F2613-14 and EN 1022) for sideways stability on sample children's folding chairs, CPSC staff determined that both methods were valid and the results were comparable between the two methods. However, the ASTM F2613-14 test method already is being used to test rearwards stability, and CPSC staff found that the test method could be used also to test sideways stability with modifications, to reduce the incidents of tipovers.

On July 24, 2015, ASTM balloted the sideways stability requirement, which received five negative votes and several comments, most of which contained editorial comments to the ballot. The negatives all pertain to a common style non-folding chair without arms that fails the balloted requirement, but is not associated with any incidents. However, the proposed rule does not include non-folding chairs and stools, and non-folding chairs and stools are outside the scope of the proposed rule. Accordingly, the Commission proposes to change the stability test method in ASTM F2613-14 to include a sideways stability test method, in addition to rearward stability testing, to reduce the number of tip-over-related incidents for folding chairs and folding stools.

Miscellaneous Hazards—CPSC staff's review of the incident data included 17 incidents involving miscellaneous hazards. Three incidents related to elevated levels of hazardous materials (e.g., lead, bromine, or mercury). One of the incidents appears to be “non-product-related,” and the remaining 13 incidents involved various integrity issues, such as loose screws, loose plastic pieces, or a detached seat pad.

ASTM 2613-14 contains requirements prohibiting certain hazardous substances, including lead and flammable substances. In addition, ASTM 2613-14 also includes requirements for sharp points and edges, which were noted in some incidents. CPSC staff's review also indicated that the static load and fatigue tests in ASTM 2613-14 also would minimize integrity issues. Accordingly, the Commission is not proposing any changes to the existing ASTM F2613-14 standard to address these miscellaneous incidents at this time.

Marking and Labeling—CPSC staff's review of the warning labels in ASTM 2613-14 indicates that the existing warning labels found in the 2014 version of the standard can be improved in terms of content and format, by improving three areas: (1) Noticing the label; (2) processing the safety message; and (3) motivating behavior changes.

Noticing the Label—Currently, many folding chairs and folding stools place the warning label on the bottom of the seating surface of the chair. CPSC staff believes that consumers are less likely to notice the warnings on the bottom of the chair for several reasons. First, consumers are not likely to notice the warning when the chair is unfolded and in the upright position. Second, a child's folding chair or stool has no obvious hazards. If the perception of hazard associated with a product is low, consumers are less likely to look for a warning. Third, in many instances, even if consumers looked for a warning on a currently-marketed folding chair or stool, the consumer may not notice the warning because the warning is embedded or buried among non-safety messages.

Although CPSC staff believes that the ideal placement of the label is on the front of the chair, such placement may detract from the appearance of the product and make consumers remove the label. Accordingly, CPSC staff looked at other locations for appropriate label placement. For example, one area that may be separate and distinct label on a folding chair is on the back of the chair's back rest away from warnings on the underside of the chair. An example of separate and distinct label on a folding stool is on a visible location such as on the legs in such a way that the label does not wrap around the legs.

Processing the Safety Message—Currently, ASTM2613-14 requires that the warnings be easy to read and understand. However, this requirement is vague and gives no guidance on how to implement these requirements. CPSC staff's research indicates that warnings in a bullet point, outline-type list are rated higher by subjects on perceived effectiveness than when in paragraph format. Similarly, text arranged in a list format, rather than horizontally, makes instructions easier to follow. Other changes, such as using “white space” to break up text into “chunks” of information, using sans serif typestyle for short word messages, and a mixture of upper and lower case lettering, can be less confusing and easier to read than all uppercase lettering because there is more variation among the letter shapes. CPSC staff's evaluation indicated that if these elements are included, warning labels will be easier to read and understand.

Motivating Behavioral Change—CPSC staff's research indicates that if a consumer notices the label, and reads and understands the safety messages, the label should motivate a change in behavior. To motivate consumers to comply with the warning, the warning should tell consumers why they need to comply. Therefore, the way in which the warning describes the hazard, as well as a statement about the consequences of ignoring the warning, may have an influence on compliance rates. Further, the label needs to tell consumers what to do to avoid the hazard.

CPSC staff developed suggested wording and formatting changes for children's folding chairs and folding stools that CPSC staff believed would improve the warning label sections of the voluntary standard. CPSC staff circulated these proposed wording and formatting changes to the ASTM subcommittee responsible for ASTM F2613-14, and discussed the proposed changes at public ASTM meetings in January and May 2015. In response to feedback received from ASTM and stakeholders, CPSC staff made adjustments to staff's proposed warning labels.

Based on staff's evaluation, the Commission now proposes to adopt ASTM F2613-14, with modifications to some of the warning labels for children's folding chairs and stools, to provide specific guidance for a more consistent and prominent presentation of hazard information through the use of clear and conspicuous text. In addition, the proposed rule recommends that the warnings be separate and distinct from other written material or graphics, so that the label is clearly visible when consumers approach the folding chair or folding stool.

VI. The Proposed Rule

A. CPSC's Proposed Standard for Children's Folding Chairs and Stools

The Commission is proposing to incorporate by reference ASTM F2613-14, with certain modifications to strengthen the standard. As discussed in the previous section, the Commission concludes that these modifications will further reduce the risk of injury associated with children's folding chairs and stools.

The proposed rule would limit the scope of the rule to children's folding chairs and folding stools under section 1232.1. The definition of “children's folding chair” and “folding stool” is provided in ASTM F2613-14 in section 3.1.4. In addition, section 1232.2(a) would incorporate by reference ASTM F2613-14, with the exception of certain provisions that the Commission proposes to modify. Section 1232.2(b) would detail the changes and modifications to ASTM F2613-14 that the Commission has determined would further reduce the risk of injury from children's folding chairs and folding stools.

In particular, we would revise section 5.13 (Stability), to specify that all products shall not tip over backwards or sideways when tested in accordance with the stability test methods and provide that tip over shall consist of the product moving past equilibrium and begin to overturn. In addition, we propose to revise Section 6.8 (Stability Test Method) to include a test method for sideways stability testing, as well as rearward stability testing. We also propose to add Section 6.8.1 to provide the requirements for the test equipment and preparation, and specify the test surface area, test cylinders, and measurement of product seating surface height.

The proposed rule would add section 6.8.2. to provide the test method for rearward stability and section 6.8.3 to provide the test method for sideways stability. Those sections would also specify the product orientation, the application of the load, cylinder positioning for folding chairs, and cylinder positioning for folding stools.

We also propose revisions to the marking and labeling section in section 7.2. Specifically, section 7.2 would be changed to state that each folding chair and each folding stool requires warning statements. New proposed requirements would provide specific instructions so that warnings are easier to read and are more conspicuous. Some of these requirements include putting the warnings in the English language, using highly contrasting color(s) in non-condensed sans serif type, text size, and placing the label separate and distinct from any other graphic or written material on the product. Other proposed requirements would provide specific language for the warning statements including the use of the safety alert symbol

and the signal words “WARNING,” and “AMPUTATION HAZARD”.

B. Other Provisions of the Proposed Rule

The Commission is also proposing to amend 16 CFR part 1112 to include 16 CFR part 1232 in the list of notice of requirements (“NORs”) issued by the Commission, as discussed in section VIII of the preamble.

In addition, for consistency in deeming both children's folding chairs and folding stools to be “durable infant or toddler products,” the Commission also is proposing to amend 16 CFR 1130.2 to make the scope of the registration card rule applicable to both children's folding chairs and folding stools. As discussed in section V of the preamble, although the registration card rule specifically lists children's folding chairs, the rule is silent on children's folding stools (16 CFR 1130.2(a)(13)). The Commission considers folding stools to be a subset of folding chairs, and therefore, proposes to include children's folding stools within the scope of the proposed standard. Accordingly, the Commission proposes to amend § 1130.2 by revising paragraph (a)(13) to include both children's folding chairs and folding stools.

VII. Incorporation by Reference

Section 1232.2(a) of the proposed rule incorporates by reference ASTM F2670-13. The Office of the Federal Register (“OFR”) has regulations concerning incorporation by reference. 1 CFR part 51. The OFR regulations require that, for a proposed rule, agencies must discuss in the preamble to the NPR, ways that the materials the agency proposes to incorporate by reference are reasonably available to interested persons, or explain how the agency worked to make the materials reasonably available. In addition, the preamble to the proposed rule must summarize the material. 1 CFR 51.5(a).

In accordance with the OFR's requirements, section V of this preamble summarizes the provisions of ASTM F2613-14 that the Commission proposes to incorporate by reference. ASTM F2613-14 is copyrighted. By permission of ASTM, the standard can be viewed as a read-only document during the comment period on this NPR, at: http://www.astm.org/cpsc.htm. Interested persons may also purchase a copy of ASTM F2613-14 from ASTM International, 100 Bar Harbor Drive, P.O. Box 0700, West Conshohocken, PA 19428; http://www.astm.org. One may also inspect a copy at CPSC's Office of the Secretary, U.S. Consumer Product Safety Commission, Room 820, 4330 East West Highway, Bethesda, MD 20814, telephone 301-504-7923.

VIII. Amendment of 16 CFR Part 1112 To Include NOR for Children's Folding Chairs and Stools

The CPSA establishes certain requirements for product certification and testing. Products subject to a consumer product safety rule under the CPSA, or to a similar rule, ban, standard or regulation under any other act enforced by the Commission, must be certified as complying with all applicable CPSC-enforced requirements. 15 U.S.C. 2063(a). Certification of children's products subject to a children's product safety rule must be based on testing conducted by a CPSC-accepted third party conformity assessment body. Id. 2063(a)(2). The Commission must publish a NOR for the accreditation of third party conformity assessment bodies to assess conformity with a children's product safety rule to which a children's product is subject. Id. 2063(a)(3). Thus, the proposed rule for 16 CFR part 1232, Safety Standard for Children's Folding Chairs and Stools, if issued as a final rule, would be a children's product safety rule requiring the issuance of a NOR.

The Commission published a final rule, Requirements Pertaining to Third Party Conformity Assessment Bodies, 78 FR 15836 (March 12, 2013), codified at 16 CFR part 1112 (“part 1112”) and effective on June 10, 2013, establishing requirements for CPSC acceptance of third party conformity assessment bodies to test for conformance with a children's product safety rule in accordance with section 14(a)(2) of the CPSA. Part 1112 also codifies all of the NORs previously issued by the Commission.

All new NORs for new children's product safety rules, such as the children's folding chairs and stools standard, require an amendment to part 1112. To meet the requirement that the Commission issue a NOR for the proposed children's folding chairs and stools standard, as part of this NPR, the Commission proposes to amend the existing rule that codifies the list of all NORs issued by the Commission to add children's folding chairs and stools to the list of children's product safety rules for which the CPSC has issued a NOR.

Test laboratories applying for acceptance as a CPSC-accepted third party conformity assessment body to test to the new standard for children's folding chairs and stools would be required to meet the third party conformity assessment body accreditation requirements in part 1112. When a laboratory meets the requirements as a CPSC-accepted third party conformity assessment body, the laboratory can apply to the CPSC to have 16 CFR part 1232, Standard Consumer Safety Specification for Children's Folding Chairs and Stools, included in the laboratory's scope of accreditation of CPSC safety rules listed for the laboratory on the CPSC Web site at: www.cpsc.gov/labsearch.

IX. Effective Date

The Administrative Procedure Act (“APA”) generally requires that the effective date of a rule be at least 30 days after publication of the final rule. 5 U.S.C. 553(d). The Commission is proposing an effective date of 6 months after publication of the final rule in the Federal Register for products manufactured or imported on or after that date. The proposed rule would require manufacturers to make design or manufacturing changes to address the proposed sideways stability testing requirements. The warning label changes do not affect the design and manufacturing of the folding chairs or folding stools, but rather, require printing new labels. The Commission believes that most firms should be able to comply within the 6-month time frame and allow ample time for manufacturers and importers to arrange for third party testing, consistent with the timeframe adopted in a number of other section 104 rules. However, the Commission seeks comments regarding the economic impact on small manufacturers and importers on meeting the side stability testing requirements as well as meeting the third party testing requirements discussed in section X below. In addition, we ask for comments on the proposed 6-month effective date.

X. Regulatory Flexibility Act

A. Introduction

The Regulatory Flexibility Act (“RFA”) requires agencies to consider the impact of proposed rules on small entities, including small businesses. The RFA generally requires agencies to review proposed rules for their potential impact on small entities and prepare an initial regulatory flexibility analysis (“IRFA”) unless the agency certifies that the rule, if promulgated, will not have a significant economic impact on a substantial number of small entities. 5 U.S.C. 603 and 605. Because CPSC staff was unable to estimate precisely all costs of the proposed rule, staff conducted such an analysis. The IRFA must describe the impact of the proposed rule on small entities and identify significant alternatives that accomplish the statutory objectives and minimize any significant economic impact of the proposed rule on small entities. Specifically, the IRFA must contain:

• A description of, and where feasible, an estimate of the number of small entities to which the proposed rule will apply;

• a description of the reasons why action by the agency is being considered;

• a succinct statement of the objectives of, and legal basis for, the proposed rule;

• a description of the projected reporting, recordkeeping, and other compliance requirements of the proposed rule, including an estimate of the classes of small entities subject to the requirements and the type of professional skills necessary for the preparation of reports or records; and

• identification, to the extent possible, of all relevant federal rules that may duplicate, overlap, or conflict with the proposed rule; and

• a description of any significant alternatives to the proposed rule that accomplish the stated objectives of applicable statutes and minimize the rule's economic impact on small entities.

B. Market

CPSC staff is aware of four domestic firms manufacturing and ten domestic firms importing children's folding chairs and/or stools in the United States. Most firms only supply one model of chair; two supply two models, and one supplies five distinct models. All four manufacturers and six importers are categorized as “small firms” under the guidelines of the U.S. Small Business Administration (“SBA”). One importer's size could not be determined.

The Juvenile Products Manufacturers Association (“JPMA”) maintains a certification program for children's folding chairs and folding stools but at this time there are no active participants. JPMA does not maintain a list of firms complying with the voluntary standard for children's chairs; compliance of firms with the voluntary standard is self-reported and several firms report compliance with ASTM standards. Some of the firms in the market participate actively in the ASTM standard process and those firms are likely to comply with the voluntary standard.

C. Reason for Agency Action and Legal Basis for Proposed Rule

Section 104(b) of the CPSIA requires the CPSC to promulgate a mandatory standard for children's folding chairs and stools that is substantially the same as, or more stringent than, the voluntary standard if the Commission determines that a more stringent standard would further reduce the risk of injury associated with such products. The Commission is proposing a safety standard for children's folding chairs and stools in response to the requirements of section 104(b).

D. Other Federal Rules

The Commission has not identified any federal or state rule that duplicates, overlaps, or conflicts with the proposed rule.

E. Impact of the New Standards and Testing Requirements on Small Businesses

Under SBA guidelines, a manufacturer of children's folding chairs and stools is categorized as “small” if it has 500 or fewer employees, and importers and wholesalers are considered “small” if they have 100 or fewer employees. Staff has identified four firms currently manufacturing and ten firms importing children's folding chairs and stools in the United States. All four manufacturers and six of the importers are categorized as small businesses. One importer's size could not be determined.

Small Manufacturers

Of the four identified small manufacturers of children's folding chairs and stools in the United States, two claim compliance with the voluntary standard, and at least one participates in the ASTM process. Of the two remaining manufacturers, one does not comply with warning label requirement and possibly other requirements; the compliance of the other could not be determined. Regardless of conformance to the voluntary standard, the proportion of chairs that might need modifications to comply with side stability requirements could be high. In testing conducted by CPSC Engineering Sciences (“ES”) staff, 7 models out of 9 model samples (from both small and large firms) failed the proposed test for side stability.

If a folding chair or a folding stool must be modified to comply with the staff's proposed side-stability requirements, costs will vary with the necessary modification. CPSC ES staff has identified the addition of a small plastic stabilizer to each corner as a possible modification for chairs or stools with rounded tube frames, based on one model tested which passed with these stabilizers and failed the test with them removed. Similarly designed models found in Europe, where side stability requirements exist for children's folding chairs, also contain these stabilizers. The costs of adding these small pieces of plastic would likely be low, due to the size and material.

For chairs with other frame types and arms that extend farther out from the seating area, for which the plastic stabilizers are either not possible or not sufficient, a redesign may be necessary to eliminate the arms or otherwise modify the chair's design for compliance with the requirements. One manufacturer estimates the costs to redesign a non-compliant chair to be $10,000, including 9 to 12 months of labor and development time. This cost could be significant for one manufacturer, if a redesign were required for all models. The costs for a non-compliant folding chair that does not require a full redesign would likely be lower. The costs for redesign of warning labels is expected to be 1 hour of labor time at current labor rates, as discussed in section XII below.

At this time, CPSC staff does not have sufficient information to determine what proportion of folding chair or folding stool models currently in the market will be able to meet the side-stability requirements through a simple and inexpensive fix like adding a plastic stabilizer versus the proportion of models that will require a more costly redesign. Without this information, the economic impact that the four small manufacturers will experience due to the proposed side-stability requirements is difficult to assess. Therefore, we cannot rule out a significant economic impact for small folding chair manufacturers.

The Commission seeks information on the modifications that manufacturers expect are needed for existing folding chair or folding stool models to meet the side-stability requirements as well as any data regarding the expected costs of such modifications. In particular, the Commission seeks comments on the likely costs of compliance with the side-stability requirements and the extent to which the total cost of any necessary modifications might exceed one percent of the manufacturer's gross revenue.

Three of the small manufacturers of children's folding chairs and folding stools have diversified product lines. If the cost of compliance with the proposed rule is too high, these firms might discontinue production, thus avoiding significant economic harm. However, because revenue data for these firms was not sufficiently detailed, CPSC staff cannot determine with any certainty whether exit from the market is an economically viable option. The remaining manufacturer supplies a folding chair as an accessory with its one main product. This manufacturer's folding chair does not currently comply with the voluntary standard. Although the firm might be able to offer its product line without a folding chair, CPSC staff cannot determine whether ceasing the sale of its folding chair would have a significant adverse impact on the firm, and thus, CPSC staff is unable to rule out a significant economic impact based on this manufacturer's ability to exit the market.

To better assess the economic impact on small manufacturers, the Commission is interested in obtaining data on the importance of children's folding chairs and stools relative to a manufacturer's overall product line and gross revenues, and feedback regarding the desirability of exit as a strategy for averting regulatory compliance costs. For example, do sales of children's folding chairs or folding stools constitute a small proportion of a manufacturer's overall revenue (i.e. less than one percent of gross revenue)? Would a typical manufacturer of children's folding chairs or folding stools be able to discontinue production without experiencing significant economic hardship?

Under section 14 of the CPSA, children's folding chairs and stools are subject to third party testing and certification. Once the new requirements become effective, all manufacturers will be subject to the additional costs associated with the third party testing and certification requirements under the testing rule, Testing and Labeling Pertaining to Product Certification (16 CFR part 1107). Third party testing will include physical and mechanical test requirements specified in the folding chairs final rule; lead testing is already required. Third party testing costs are in addition to the direct costs of meeting the standard.

CPSC staff contacted two small manufacturers regarding testing costs and one firm estimated that chemical and structural testing of one unit of a children's folding chair costs around $1,000 annually. No other firms were willing or able to supply the requested testing cost information. Estimates provided by suppliers for other section 104 rulemakings indicate that around 40 to 50 percent of testing costs can be attributed to structural requirements, with the remaining 50 to 60 percent resulting from chemical testing (lead testing). CPSC staff estimates that testing to structural components of the ASTM voluntary standard could cost about $400 to $500 per sample tested ($1,000 × .4 to $1,000 × .5). These costs are consistent with testing cost estimates for products with standards of similar complexity.

CPSC staff's review of the children's folding chairs and folding stools market shows that three small domestic manufacturers supply one model of children's folding chair or folding stool to the U.S. market annually. The fourth small manufacturer supplies five models of children's folding chairs and folding stools. Therefore, if third party testing were conducted every year, third party testing costs for three manufacturers with only one model would be about $400-$500 annually per model tested, and $2,000-$2,500 for the other manufacturer ($400-$500 per model, five models), if only one sample were tested for each model.

The testing and labeling rule (16 CFR part 1107) is not explicit regarding the number of samples firms will need to test to meet the “high degree of assurance” criterion. However, based on an examination of each small domestic manufacturer's revenues from recent Dun & Bradstreet or Reference USA reports, testing costs are likely to be under one percent of gross revenue for these small manufacturers. Thus, it seems unlikely that testing costs, by themselves, would be economically significant for the small manufacturers unless a very high number of samples per model were needed to meet the “high degree of assurance” criterion. The Commission seeks comments on the typical number of samples that are tested to satisfy third party testing requirements, and whether third party testing would lead to significant economic impact.

Small Domestic Importers. Of the six or seven small importers, only one claims that its products comply with the ASTM standard. The state of compliance for the remainder could not be determined. For the importer or importers currently in compliance with the voluntary standard, if their products pass the sideways stability test, there should be minimal burden associated with compliance. As most of the imported chairs tested by CPSC engineering staff failed the proposed sideways stability test, it is probable that many importers' products would not comply with the proposed rule.

Whether there is a significant economic impact on small importers will depend upon the extent of the changes required to come into compliance and the response of their supplying firms. In general, if the supplying firm comes into compliance, the importer could elect to continue importing the compliant product. Any increase in production costs experienced by suppliers as a result of changes made to meet the mandatory standard could be passed on to the importers. If an importer is unwilling or unable to accept the increased costs, or if the importer's supplier decides not to comply with the mandatory standard, the importer could find another supplier of children's folding chairs and stools or stop importing children's folding chairs and stools. Because no small importers responded to requests for information, however, staff could not estimate the economic impact on these firms and cannot rule out a significant economic impact.

To assist with further analysis of the impact of the rule on small importers, the Commission seeks information on the degree to which supplying firms tend to pass on increases in production and regulatory costs to importers. To what extent is the ability to pass on these costs limited by the ease with which importers can switch suppliers or substitute an alternative product for children's folding chairs and stools?

As with manufacturers, all importers will be subject to third party testing and certification requirements, and consequently, will be subject to costs similar to those for manufacturers if the importer's supplying foreign firm(s) does not perform third party testing. These testing costs are not likely, by themselves, to exceed one percent of gross revenue for the six small domestic importers for which revenue information is available. The impact on the other importer is unknown. Again, the Commission is interested in the size of the economic impact third party testing poses for importers, and whether testing costs would constitute a small proportion of a manufacturer's overall revenue (i.e. less than one percent of gross revenue).

Alternatives. CPSC staff reviewed the alternatives to the proposed mandatory standard. Adopting ASTM F2613-14 with respect to children's folding chairs and stools, but without any further modifications to the performance requirements is one alternative. This alternative would reduce the impact on all of the known small businesses supplying children's folding chairs and stools to the U.S. market by not including the additional requirements and tests for sideways stability and additional labeling requirements. Another alternative would be to set a later effective date than the 6 month effective date proposed in the NPR. The NPR requests comments on the economic impacts of the proposed rule, as well as comments on the 6 month effective date.

F. Impact of Proposed 16 CFR Part 1112 Amendment on Small Businesses

As required by the RFA, staff conducted a Final Regulatory Flexibility Analysis (“FRFA”) when the Commission issued the part 1112 rule (78 FR 15836, 15855-58). Briefly, the FRFA concluded that the accreditation requirements would not have a significant adverse impact on a substantial number of small testing laboratories because no requirements were imposed on test laboratories that did not intend to provide third party testing services. The only test laboratories that were expected to provide such services were those that anticipated receiving sufficient revenue from the mandated testing to justify accepting the requirements as a business decision.

Based on similar reasoning, amending 16 CFR part 1112 to include the NOR for the children's folding chair and stool standard will not have a significant adverse impact on small test laboratories. Moreover, based upon the number of test laboratories in the United States that have applied for CPSC acceptance of accreditation to test for conformance to other mandatory juvenile product standards, we expect that only a few test laboratories will seek CPSC acceptance of their accreditation to test for conformance with the children's folding chair and stool standard. Most of these test laboratories will have already been accredited to test for conformance to other mandatory juvenile product standards, and the only costs to them would be the cost of adding the children's folding chair and stool standard to their scope of accreditation. As a consequence, the Commission certifies that the NOR amending 16 CFR part 1112 to include the children's folding chair and stool standard will not have a significant impact on a substantial number of small entities.

XI. Environmental Considerations

The Commission's regulations address whether we are required to prepare an environmental assessment or an environmental impact statement. Under these regulations, a rule that has “little or no potential for affecting the human environment” is categorically exempt from this requirement. 16 CFR 1021.5(c)(1). The proposed rule falls within the categorical exemption.

XII. Paperwork Reduction Act

This proposed rule contains information collection requirements that are subject to public comment and review by the Office of Management and Budget (“OMB”) under the Paperwork Reduction Act of 1995 (“PRA”) (44 U.S.C. 3501-3521). In this document, pursuant to 44 U.S.C. 3507(a)(1)(D), we set forth:

• A title for the collection of information;

• a summary of the collection of information;

• a brief description of the need for the information and the proposed use of the information;

• a description of the likely respondents and proposed frequency of response to the collection of information;

• an estimate of the burden that shall result from the collection of information; and

• notice that comments may be submitted to the OMB.

Title: Safety Standard for Children's Folding Chairs and Stools.

Description: The proposed rule would require each folding chair and folding stool to comply with ASTM F2613-14, with the changes proposed in this Notice, which contains requirements for marking and labeling. These requirements fall within the definition of “collection of information,” as defined in 44 U.S.C. 3502(3).

Description of Respondents: Persons who manufacture or import children's folding chairs and folding stools.

Estimated Burden: We estimate the burden of this collection of information as follows:

Table 1—Estimated Annual Reporting Burden
16 CFR Section | Number of respondents | Frequency of responses | Total annual responses | Hours per response | Total burden hours
1232.2 | 14 | 1.4 | 20 | 1 | 20

Our estimate is based on the following:

There are 14 known firms supplying children's folding chairs or folding stools to the U.S. market. All firms are assumed to use labels on both their products and their packaging already, but they might need to make some modifications to their existing labels. The estimated time required to make these modifications is about 1 hour per model. Each of these firms supplies an average of 1.4 different models of children's folding chairs or folding stools; therefore, the estimated burden hours associated with labels is 1 hour × 14 firms × 1.4 models per firm = 20 annual hours.

We estimate that hourly compensation for the time required to create and update labels is $30.09 (U.S. Bureau of Labor Statistics, “Employer Costs for Employee Compensation,” December 2014, Table 9, total compensation for all sales and office workers in goods-producing private industries: http://www.bls.gov/ncs/). Therefore, the estimated annual cost associated with the proposed requirements is $602 ($30.09 per hour × 20 hours = $601.80).

In compliance with the PRA (44 U.S.C. 3507(d)), we have submitted the information collection requirements of this rule to the OMB for review. Interested persons are requested to submit comments regarding information collection to the Office of Information and Regulatory Affairs, OMB (see the ADDRESSES section at the beginning of this notice).

Pursuant to 44 U.S.C. 3506(c)(2)(A), we invite comments on:

• Whether the collection of information is necessary for the proper performance of the CPSC's functions, including whether the information will have practical utility;

• the accuracy of the CPSC's estimate of the burden of the proposed collection of information, including the validity of the methodology and assumptions used;

• ways to enhance the quality, utility, and clarity of the information to be collected;

• ways to reduce the burden of the collection of information on respondents, including the use of automated collection techniques, when appropriate, and other forms of information technology; and

• the estimated burden hours associated with label modification, including any alternative estimates.

XIII. Preemption

Section 26(a) of the CPSA, 15 U.S.C. 2075(a), provides that where a consumer product safety standard is in effect and applies to a product, no state or political subdivision of a state may either establish or continue in effect a requirement dealing with the same risk of injury unless the state requirement is identical to the federal standard. Section 26(c) of the CPSA also provides that states or political subdivisions of states may apply to the Commission for an exemption from this preemption under certain circumstances. Section 104(b) of the CPSIA refers to the rules to be issued under that section as “consumer product safety rules.” Therefore, the preemption provision of section 26(a) of the CPSA would apply to a rule issued under section 104.

XIV. Request for Comments

This NPR begins a rulemaking proceeding under section 104(b) of the CPSIA to issue a consumer product safety standard for children's folding chairs and stools, and to amend part 1112 to add children's folding chairs and stools to the list of children's product safety rules for which the CPSC has issued an NOR. We invite all interested persons to submit comments on any aspect of the proposed mandatory safety standard for children's folding chairs and stools and on the proposed amendment to part 1112. Specifically, the Commission requests comments on the costs of compliance with, and testing to, the proposed mandatory children's folding chairs and stools standard, the proposed 6-month effective date for the new mandatory children's folding chairs and stools standard, and the amendment to part 1112. In addition, the Commission requests comments on the proposed amendment to part 1130, to include folding stools in the proposed rule.

Comments should be submitted in accordance with the instructions in the ADDRESSES section at the beginning of this notice.

List of Subjects

16 CFR Part 1112

Administrative practice and procedure, Audit, Consumer protection, Reporting and recordkeeping requirements, Third party conformity assessment body.

16 CFR Part 1130

Administrative practice and procedure, Business and industry, Consumer protection, Reporting and recordkeeping requirements.

16 CFR Part 1232

Consumer protection, Imports, Incorporation by reference, Infants and children, Labeling, Law enforcement, and Toys.

For the reasons discussed in the preamble, the Commission proposes to amend 16 CFR chapter II, as follows:

PART 1112—REQUIREMENTS PERTAINING TO THIRD PARTY CONFORMITY ASSESSMENT BODIES

1. The authority citation for part 1112 continues to read as follows:

Authority: Pub. L. 110-314, section 3, 122 Stat. 3016, 3017 (2008); 15 U.S.C. 2063.

2. Amend § 1112.15 by adding paragraph (b)(43) to read as follows:

§ 1112.15 When can a third party conformity assessment body apply for CPSC acceptance for a particular CPSC rule and/or test method?

* * * * *

(b) * * *

(43) 16 CFR part 1232, Safety Standard for Children's Folding Chairs and Stools.

* * * * *

3. Amend § 1130.2 by revising paragraph (a)(13) to read as follows:

PART 1130—REQUIREMENTS FOR CONSUMER REGISTRATION OF DURABLE INFANT OR TODDLER PRODUCTS

§ 1130.2 Definitions.

* * * * *

(a) * * *

(13) Children's folding chairs and stools;

* * * * *

4. Add part 1232 to read as follows:

PART 1232—SAFETY STANDARD FOR CHILDREN'S FOLDING CHAIRS AND STOOLS

Sec.
1232.1 Scope.
1232.2 Requirements for children's folding chairs and stools.

Authority: Sec. 104, Public Law 110-314, 122 Stat. 3016.

§ 1232.1 Scope.

This part establishes a consumer product safety standard for children's folding chairs and stools.

§ 1232.2 Requirements for children's folding chairs and stools.

(a) Except as provided in paragraph (b) of this section, each children's folding chair and stool shall comply with all applicable provisions of ASTM F2613-14, Standard Consumer Safety Specification for Children's Chairs and Stools, approved October 1, 2014. The Director of the Federal Register approves this incorporation by reference in accordance with 5 U.S.C. 552(a) and 1 CFR part 51. You may obtain a copy from ASTM International, 100 Bar Harbor Drive, P.O. Box 0700, West Conshohocken, PA 19428; http://www.astm.org. You may inspect a copy at the Office of the Secretary, U.S. Consumer Product Safety Commission, Room 820, 4330 East West Highway, Bethesda, MD 20814, telephone 301-504-7923, or at the National Archives and Records Administration (NARA). For information on the availability of this material at NARA, call 202-741-6030, or go to: http://www.archives.gov/federal_register/code_of_federalregulations/ibr_locations.html.

(b) Comply with ASTM F2613-14 with the following additions or exclusions:

(1) Instead of complying with section 5.13 of ASTM F2613-14, comply with the following:

(i) 5.13 Stability—All chairs shall not tip over backward or sideways when tested in accordance with 6.8. Tip over shall consist of the product moving past equilibrium and begin to overturn.

(ii) [Reserved]

(2) Instead of complying with section 6.8 of ASTM F2613-14, comply with the following:

(i) 6.8 Stability Test Method—(A) 6.8.1 Test equipment and preparation—(1) 6.8.1.1 Test surface—any rigid material covered with a high pressure laminate of unspecified color with a smooth matte finish and inclined at an angle of 10° (± 0.5°) to the horizontal plane.

(2) 6.8.1.2 50 lb. test cylinder—cylinder weighing 50.0 ± 0.5 lbs. (22.7 ± 0.2 kg) that is 12.0 ± 0.1 in. (305 ± 2 mm) high with a diameter of 6.0 ± 0.1 in. (152 ± 2 mm) and a center of gravity of 6.0 ± 0.1 in. (152 ± 2 mm) from either face (see Fig. 5). This cylinder shall be applied to a product seating surface whose height is 10 in. (254 mm) or less from the floor.

(3) 6.8.1.3 100 lb. test cylinder—cylinder weighing 100.0 ± 0.5 lbs. (45.4 ± 0.2 kg) that is 12.0 ± 0.1 in. (305 ± 2 mm) high with a diameter of 6.0 ± 0.1 in. (152 ± 2 mm) and a center of gravity of 6.0 ± 0.1 in. (152 ± 2 mm) from either face (see Fig. 5). This cylinder shall be applied to a product seating surface whose height is greater than 10 in. (254 mm) above the floor.

(4) 6.8.1.4 Measurement of the product seating surface height—This height shall be measured from the floor to the midpoint on the upper surface of the front edge of the seating surface, when a 2 lb. (0.9 kg) load is applied vertically downward using a ½″ (13 mm) diameter disk onto the midpoint on the upper surface of the front edge of the seat (see Fig X).

Note X—Use of stops to prevent sliding: If necessary to prevent the product from sliding down the incline, either by its own weight when initially placed on the incline or during the conduct of the test in the following sections, stops can be placed against the product's legs. Stops shall be the minimum height required to prevent sliding and shall not inhibit overturning.

(B) 6.8.2 Rearward stability

(1) 6.8.2.1 Product orientation: Place the product on the test surface with the front of the product facing the upward slope.

(2) 6.8.2.2 Application of the load: Place the applicable test cylinder so that it is centered side to side on the product seating surface, oriented perpendicular to the plane of this surface, and allow the cylinder to come to rest.

(3) 6.8.2.3 Cylinder Positioning for Chairs: Place the cylinder as far back or downslope on the seating surface as permitted by the seat back or chair frame (see Fig. 4).

(4) 6.8.2.4 Cylinder Positioning for Stools: Place the cylinder as far back or downslope as permitted by the seating surface without allowing any part of the cylinder to extend beyond the rearmost or downslope edge of the stool.

(C) 6.8.3 Sideways stability

(1) 6.8.3.1 Product orientation: Place the product on the test surface in the most unfavorable position with a side of the product facing the upward slope.

(2) 6.8.3.2 Application of the load: Place the applicable test cylinder so that it is centered front to back on the product seating surface, oriented perpendicular to the plane of this surface, and allow the cylinder to come to rest.

(3) 6.8.3.3 Cylinder Positioning for Chairs: Place the cylinder as far back or downslope on the seating surface as permitted by the chair frame or arms (see Fig. Y).

(4) 6.8.3.4 Cylinder Positioning for Stools: Place the cylinder as far back or downslope as permitted by the seating surface without allowing for any part of the cylinder to extend beyond the rearmost or downslope edge of the stool.

(3) Instead of complying with section 7.2 of ASTM F2613-14, including all subsections of section 7.2, comply with the following:

(i) 7.2 Warning Statements: Each folding chair and each folding stool shall have warning statements.

(A) 7.2.1 The warnings shall be easy to read and understand and be in the English language at a minimum.

(B) 7.2.2 The warning statements shall be conspicuous in highly contrasting color(s) (e.g., black text on white background), in non-condensed sans serif type, permanent and applied so they are in a prominent location, visible to the caregiver when the product is in the manufacturer's use position.

(C) 7.2.3 The specified warnings shall be separate and distinct from any other graphic or written material on the product and surrounded by a black border. Note: Separate and distinct, for example, on the back of the chair's back rest away from warnings on the underside of the chair so that it is clearly visible to a consumer approaching the chair from the back. For stools, where possible, the label shall be placed in a visible location such as on the legs in such a way that the label does not wrap around the legs.

(D) 7.2.4 Any labels or written instructions provided in addition to those required by this section shall not contradict or confuse the meaning of the required information or be otherwise misleading to the consumer.

(E) 7.2.5 The safety alert symbol

and, the signal word “WARNING”, and the words “AMPUTATION HAZARD” shall precede the warning statements.

(F) 7.2.6 The safety alert symbol

and the signal word “WARNING” shall not be less than 0.2-in. (5-mm) high and the remainder of the text shall be in characters whose upper case is at least 0.1-in. (2.5-mm) high except as specified.

(G) 7.2.7 The signal word WARNING shall be in black letters on an orange panel surrounded by a black border.

Note 1—When special circumstances preclude the use of the color orange, yellow or red may be used, whichever contrasts best against the product background.

(H) 7.2.8 The solid triangle portion of the safety alert symbol shall be the same color as the signal word lettering, and the exclamation mark shall be the same color as the signal word panel.

(I) 7.2.9 The words “AMPUTATION HAZARD” shall be in bold black letters.

(J) 7.2.10 The precautionary statements shall be indented from the hazard statements, preceded with bullet points, and appear as shown in Figs. 6 and 7.

(K) 7.2.11 The warning label shall contain sufficient white space as shown as shown in Figs. 6 and 7.

(L) 7.2.12 Overall height and width of the label may be modified as necessary to fit on the product, but still meet requirements for conspicuousness. An example of the warning label format described in this section is shown in Figs. 6 and 7.

(M) 7.2.13 For folding chairs and folding stools with latch(es), warnings shall address the following:

(1) 7.2.13.1 Amputation hazard:

Hazard and Consequence Statement:

AMPUTATION HAZARD

Chair can fold or collapse if lock not fully engaged. Moving parts can amputate child's fingers if chair folds or collapses.

Precautionary Statements:

• Keep fingers away from moving parts.

• Completely unfold chair and fully engage locks before allowing child to sit in chair.

• Never allow child to fold or unfold chair.

(2) [Reserved]

(N) 7.2.14 For folding chairs and folding stools without latch(es), warnings shall address the following:

(1) 7.2.14.1 Amputation hazard:

Hazard and Consequence Statement

AMPUTATION HAZARD

Moving parts can amputate child's fingers.

Precautionary Statements:

• Keep fingers away from moving parts.

• Completely unfold chair before allowing child to sit in chair.

• Never allow child to fold or unfold chair.

(2) [Reserved]

(4) In addition to the figures in ASTM F2613-14, use the following figure 6:

(5) In addition to the figures in ASTM F2613-14, use the following figure 7:

Dated: October 13, 2015.
Todd A. Stevenson,
Secretary, Consumer Product Safety Commission.

[FR Doc. 2015-26385 Filed 10-16-15; 8:45 am]

BILLING CODE 6355-01-P